Proclamation 8566 of September 17, 2010

National Hispanic-Serving Institutions Week, 2010

By the President of the United States of America

A Proclamation

Education is critical to our children’s future and to the continued growth and prosperity of our Nation. To maintain our leadership in the global economy, we have an obligation to provide a high-quality education to our children and ensure they can obtain higher education and job training. Currently, Hispanics are the largest and fastest growing minority group in our Nation, and they have been a vital force of innovation and development. As we look to deliver a world-class education that will determine America’s success in the 21st century, we must ensure Hispanics have access to the resources and tools needed to compete and thrive.

Hispanic-Serving Institutions (HSIs) are key members of our higher education system and vital sources of strength for our Nation’s students. They play an important role in attracting underrepresented Americans to science, technology, engineering, and math—fields that will be pivotal in the 21st-century economy. HSIs are committed to improving the lives of their students as well as helping revitalize the communities where they serve. Graduates of these institutions are helping expand our economy and enriching all aspects of our national life.

To prepare the next generation of great American leaders, my Administration has set a goal to have the highest proportion of college graduates in the world by 2020. Enhancing educational opportunities for Hispanics will be vital to achieving this objective, and we will need the continued leadership of our HSIs to increase the enrollment, retention, and graduation rates of our Hispanic students. Working together, we will open doors of opportunity for all our children and help them succeed on a global stage.

This week, we celebrate the contributions of the more than 200 Hispanic-Serving Institutions in communities across our country, and we recognize the students, alumni, parents, teachers, and school leaders whose vision and dedication has brightened countless futures. We will need their dreams and hard work, ideas and talents, perseverance and daring in the days ahead to build a stronger, more prosperous tomorrow for our Nation.

NOW, THEREFORE, I, BARACK OBAMA, President of the United States of America, by virtue of the authority vested in me by the Constitution and the laws of the United States, do hereby proclaim September 19 through September 25, 2010, as National Hispanic-Serving Institutions Week. I call upon all public officials, educators, and people of the United States to observe this week with appropriate programs, ceremonies, and activities that acknowledge the contributions these institutions and their graduates have made to our country.

IN WITNESS WHEREOF, I have hereunto set my hand this seventeenth day of September, in the year of our Lord two thousand ten, and of the Independence of the United States of America the two hundred and thirty-fifth.

[FR Doc. 2010-24098

Filed 9-22-10; 11:15 am]

Billing code 3195-W0-P